DEPARTMENT OF ENERGY

Federal Energy Regulatory Commission

Combined Notice of Filings #1

Take notice that the Commission received the following exempt wholesale generator filings:

Docket Numbers: EG21-105-000.

Applicants: Elara Energy Project, LLC.

Description: Elara Energy Project, LLC submits Notice of Self-Certification of Exempt Wholesale Generator Status.

Filed Date: 3/4/21.

Accession Number: 20210304-5214.

Comments Due: 5 p.m. ET 3/25/21.

Docket Numbers: EG21-106-000.

Applicants: Taygete Energy Project II, LLC.

Description: Notice of Self-Certification of Exempt Wholesale Generator Status of Taygete Energy Project II, LLC.

Filed Date: 3/10/21.

Accession Number: 20210310-5068.

Comments Due: 5 p.m. ET 3/31/21.

Take notice that the Commission received the following electric rate filings:

Docket Numbers: ER10-2034-007; ER15-190-016; ER18-490-000.

Applicants: Duke Energy Renewable Services, LLC, Duke Energy Indiana, LLC.

Description: Supplement to December 18, 2020 Triennial Market Power Analysis for Central Region of Duke Companies.

Filed Date: 3/4/21.

Accession Number: 20210304-5210.

Comments Due: 5 p.m. ET 3/25/21.

Docket Numbers: ER18-126-001; ER16-2019-005.

Applicants: AL Solar A, LLC, Five Points Solar Park LLC.

Description: Notice of Non-Material Change in Status of AL Solar A, LLC, et al.

Filed Date: 3/9/21.

Accession Number: 20210309-5195.

Comments Due: 5 p.m. ET 3/30/21.

Docket Numbers: ER21-1176-000.

Applicants: Delta's Edge Solar, LLC.

Description: Delta's Edge Solar, LLC submits Supplemental Information Regarding the Application for Market Based Rate Authority.

Filed Date: 2/25/21.

Accession Number: 20210225-5221.

Comments Due: 5 p.m. ET 3/18/21.

Docket Numbers: ER21-1249-001.

Applicants: Vineyard Reliability LLC.

Description: Tariff Amendment: Vineyard_Rel_MBRA_App_Supp to be effective 3/5/2021.

Filed Date: 3/10/21.

Accession Number: 20210310-5000.

Comments Due: 5 p.m. ET 3/24/21.

Docket Numbers: ER21-1310-000.

Applicants: PJM Interconnection, L.L.C.

Description: Tariff Cancellation: Notice of Cancellation of ISA, SA No. 4730; Queue No. AC1-039 to be effective 4/26/2021.

Filed Date: 3/9/21.

Accession Number: 20210309-5166.

Comments Due: 5 p.m. ET 3/30/21.

Docket Numbers: ER21-1312-000.

Applicants: New York State Electric & Gas Corporation, New York Independent System Operator, Inc.

Description: § 205(d) Rate Filing: 205: NYISO-NYSEG Joint LGIA 2487 among NYISO, NYSEG, Baron Winds to be effective 2/24/2021.

Filed Date: 3/10/21.

Accession Number: 20210310-5051.

Comments Due: 5 p.m. ET 3/31/21.

Docket Numbers: ER21-1314-000.

Applicants: Tri-State Generation and Transmission Association, Inc.

Description: § 205(d) Rate Filing: Amendment to Service Agreement No. 849 to be effective 2/11/2021.

Filed Date: 3/10/21.

Accession Number: 20210310-5091.

Comments Due: 5 p.m. ET 3/31/21.

Docket Numbers: ER21-1315-000.

Applicants: Midcontinent Independent System Operator Inc., American Transmission Company LLC.

Description: § 205(d) Rate Filing: 2021-03-10_SA 2775 ATC-Marshfield 1st Rev CFA to be effective 5/10/2021.

Filed Date: 3/10/21.

Accession Number: 20210310-5106.

Comments Due: 5 p.m. ET 3/31/21.

Docket Numbers: ER21-1316-000.

Applicants: Louisville Gas and Electric Company.

Description: § 205(d) Rate Filing: EKPC Bullitt County CIAC Agreement to be effective 3/10/2021.

Filed Date: 3/10/21.

Accession Number: 20210310-5138.

Comments Due: 5 p.m. ET 3/31/21.

Docket Numbers: ER21-1317-000.

Applicants: Kentucky Utilities Company.

Description: § 205(d) Rate Filing: KU Concurrence EKPC Bullitt County CIAC Agreement to be effective 3/10/2021.

Filed Date: 3/10/21.

Accession Number: 20210310-5139.

Comments Due: 5 p.m. ET 3/31/21.

Take notice that the Commission received the following public utility holding company filings:

Docket Numbers: PH21-8-000.

Applicants: Greenidge Generation Holdings Inc., Atlas Capital Resources (A9-Parallel) LP.

Description: Greenidge Generation Holdings Inc. et al., submits FERC-65-A Exemption Notification.

Filed Date: 3/9/21.

Accession Number: 20210309-5194.

Comments Due: 5 p.m. ET 3/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2021.
Kimberly D. Bose,
Secretary.

[FR Doc. 2021-05385 Filed 3-15-21; 8:45 am]

BILLING CODE 6717-01-P